DEPARTMENT OF AGRICULTURE

Food and Nutrition Service

Supplemental Nutrition Assistance Program: Agency Information Collection Activities: Proposed Collection; Comment Request; Disaster Supplemental Nutrition Assistance Program

AGENCY: Food and Nutrition Service, USDA.

ACTION: Notice.

SUMMARY: In accordance with the Paperwork Reduction Act of 1995, this notice invites the general public and other public agencies to comment on proposed information collections. This information collection is based on the Robert T. Stafford Disaster Relief and Emergency Assistance Act and Section 5(h) of the Food and Nutrition Act of 2008, which provide the Secretary of Agriculture with the authority to develop a Disaster Supplemental Nutrition Assistance Program (D-SNAP) to address the needs of families temporarily in need of food assistance after a disaster. The information collection under this notice is required for the establishment and operation of a D-SNAP.

DATES: Written comments must be received on or before May 8, 2009.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond to this information collection, including through the use of appropriate automated, electronic, mechanical, or other technological collection techniques or other forms of information technology. Comments may be sent to Sandra Clark, Chief, Certification Policy Branch, Program Development Division, Food and Nutrition Service, U.S. Department of Agriculture, 3101 Park Center Drive, Alexandria, Virginia 22302. Comments may also be faxed to the attention of Ms. Clark at (703) 305-2486. The Internet address is: Sandy.Clark@FNS.USDA.GOV. All written comments will be open for public inspection at the office of the Food and Nutrition Service during regular business hours (8:30 a.m. to 5 p.m., Monday through Friday) at 3101 Park Center Drive, Alexandria, Virginia, 22302, Room 812.

All responses to this notice will be summarized and included in the request for OMB approval. All comments will be a matter of public record.

FOR FURTHER INFORMATION CONTACT: Requests for additional information should be directed to Ms. Clark at (703) 305-2495.

SUPPLEMENTARY INFORMATION: Title: Disaster Supplemental Nutrition Assistance Program (D-SNAP).

OMB Number: 0584-0336.

Expiration Date: June 30, 2009.

Type of Request: Extension of a previously approved collection.

Abstract: Pursuant to the Robert T. Stafford Disaster Relief and Emergency Assistance Act, Pub. L. 100-707, and Section 5(h) of the Food and Nutrition Act of 2008, 7 U.S.C. 2014(h), the Secretary of Agriculture has the authority to develop a Disaster Supplemental Nutrition Assistance Program (D-SNAP) to address the temporary food needs of families following a disaster. The information collection under this notice is required to be provided by State agencies in order to receive approval from the Food and Nutrition Service (FNS) to operate a D-SNAP in response to a disaster.

The number of disasters that occur annually and the average number of households affected by the disasters cannot be predicted. During the period from calendar year 2003 through calendar year 2008, the number of State requests to operate disaster programs has ranged from a low of five in calendar year 2006 to a high of 26 in calendar year 2005, which included program modifications requested by some States to accommodate evacuees from disasters which did not directly affect the States themselves. The information collection under this reporting burden is limited to the burden experienced by State agencies in preparing their requests to operate D-SNAPs. The burden associated with the actual operation of D-SNAPs, including the processing of applications from households affected by disasters, is included under OMB docket #0584-0064 rather than this information collection. FNS estimates that approximately 10 hours of State agency personnel time are required to prepare such requests. The burden associated with preparing requests to operate D-SNAPs does not vary significantly from disaster to disaster and is relatively independent of the scope of the disaster. Major disasters require little additional document preparation time than relatively minor disasters. Based on an estimate of 14 State agency requests per year to operate D-SNAPs and 10 hours of State agency personnel time to prepare each application, FNS has calculated an estimated burden of 140 hours per year in an average year. This represents a significant increase from our previous estimate, which was based on an annual average of eight disaster programs.

Affected Public: State and local governments.

Estimated Number of Responses: 14.

Estimated Number of Respondents: 14.

Estimated Number of Responses per Recipi ent: 1.

Estimated Time per Response: 10 hours.

Estimated Total Annual Burden: 140 hours.

Dated: March 3, 2009.
E. Enrique Gomez,
Acting Administrator, Food and Nutrition Service.

[FR Doc. E9-4824 Filed 3-6-09; 8:45 am]

BILLING CODE 3410-30-P